DEPARTMENT OF TRANSPORTATION

Federal Aviation Administration

Notice of Intent To Rule on Request To Release Airport Property at the Aransas County Airport, Rockport, TX

AGENCY: Federal Aviation Administration (FAA), DOT.

ACTION: Notice of request to release airport property.

SUMMARY: The FAA proposes to rule and invite public comment on the release of land at the Aransas County Airport under the provisions of section 125 of the Wendell H. Ford Aviation Investment Reform Act for the 21st Century (AIR 21).

DATES: Comments must be received on or before June 21, 2004.

ADDRESSES: Comments on this application may be mailed or delivered to the FAA at the following address: Mr. Mike Nicely, Manager, Federal Aviation Administration, Southwest Region, Airports Division, Texas Airports Development Office, ASW-650, Fort Worth, Texas 76193-0650.

In addition, one copy of any comments submitted to the FAA must be mailed or delivered to Mr. Eugene Johnson, Airport Manager, at the following address: Aransas County Airport Services, PO Box 1270, Rockport, Texas 78381.

FOR FURTHER INFORMATION CONTACT: Mr. Rodney Clark, Program Manager, Federal Aviation Administration, Texas Airports Development Office, ASW-650, 2601 Meacham Boulevard, Fort Worth, Texas 76193-0650, Telephone: (817) 222-5659, E-mail: Rodney.Clark@faa.gov, Fax: (817) 222-5989.

The request to release property may be reviewed in person at this same location.

SUPPLEMENTARY INFORMATION: The FAA invites public comment on the request to release property at the Aransas County Airport under the provisions of the AIR 21.

The following is a brief overview of the request:

The city of Rockport requests the release of 39.739 acres of non-aeronautical airport property. The land was purchased through the City's General Operating Budget in 1942 and 1943. The funds generated by the release will be used for upgrading, maintenance, operation and development of the airport.

Any person may inspect the request in person at the FAA office listed above under FOR FURTHER INFORMATION CONTACT.

In addition, any person may, upon request, inspect the application, notice and other documents relevant to the application in person at the Aransas County Airport, telephone number (361) 790-0141.

Issued in Fort Worth, Texas on October 23, 2003.
Naomi L. Saunders,
Manager, Airports Division.

[FR Doc. 04-11395 Filed 5-19-04; 8:45 am]

BILLING CODE 4910-13-M